DEPARTMENT OF HOMELAND SECURITY

Coast Guard

[Docket No. USCG-2021-0609]

Policy Letter: Issuance of Endorsements for Master of Self-Propelled Vessels of Less Than 100 GRT to Mariners Holding Endorsements as Mate of Self-Propelled Vessels of 200 GRT or More

AGENCY: Coast Guard, DHS.

ACTION: Notice of availability.

SUMMARY: The Coast Guard announces the availability of a policy letter regarding Issuance of Endorsements for Master of Self-Propelled Vessels of Less Than 100 GRT to Mariners Holding Endorsements as Mate of Self-Propelled Vessels of 200 GRT or More. This policy letter provides guidance to mariners for the issuance of national officer endorsements for master of self-propelled vessels of less than 100 GRT for mariners who hold national endorsements for mate of inspected self-propelled vessels of 200 GRT or more. The Coast Guard will use applicable regulations and this policy to evaluate whether mariners may be issued an endorsement for master of self-propelled vessels of less than 100 GRT.

DATES: The policies announced in the policy letter are effective as of August 18, 2021.

ADDRESSES: To view the policy letter mentioned in this notice, search the docket number USCG-2021-0609 using the Federal eRulemaking Portal at https://www.regulations.gov.

FOR FURTHER INFORMATION CONTACT: For information about this document, contact the James Cavo, Mariner Credentialing Program Policy Division (CG-MMC-2), Coast Guard; telephone 202-372-1205; email MMCPolicy@uscg.mil.

SUPPLEMENTARY INFORMATION: As specified in 46 CFR 15.901(a), an individual holding an MMC endorsed as mate or pilot of inspected self-propelled vessels of over 200 gross registered tons (GRT) is authorized to serve as master on inspected vessels of less than 100 GRT within any restrictions on their merchant mariner credential (MMC). The Coast Guard will use the Policy Letter “Issuance of Endorsements for Master of Self-Propelled Vessels of Less Than 100 GRT to Mariners Holding Endorsements as Mate of Self-Propelled Vessels of 200 GRT or More” and 46 CFR 15.901 in issuing endorsements for mariners to serve as a master on vessels less than 100 GRT. The Coast Guard issued this policy letter to clarify the process for the issuance of national officer endorsements for master of self-propelled vessels of less than 100 GRT for mariners who hold national endorsements for mate of inspected self-propelled vessels of 200 GRT or more.

For mariners holding a MMC endorsement that authorizes service as mate on inspected self-propelled vessels of 200 GRT or more, the Coast Guard may include in the mariner's MMC a national endorsement as master of self-propelled vessels of less than 100 GRT. This will apply to the following national endorsements:

(1) Chief Mate of Self-Propelled Vessels of Unlimited Tonnage;

(2) Second Mate of Self-Propelled Vessels of Unlimited Tonnage;

(3) Third Mate of Self-Propelled Vessels of Unlimited Tonnage;

(4) Mate of Self-Propelled Vessels of Less Than 1,600 GRT;

(5) Mate of Self-Propelled Vessels of Less Than 500 GRT;

(6) Chief Mate (OSV);

(7) Mate (OSV); and

(8) Mate (Pilot) of Towing Vessels.

Mariners holding one of the endorsements above authorizing service on either near-coastal waters or oceans will be issued an endorsement as Master of Near Coastal Self-Propelled Vessels of Less Than 100 GRT. Mariners holding one of the endorsements above for inland waters or for Great Lakes and inland waters will be issued a master less than 100 GRT endorsement with the same route as their mate endorsement. Mariners holding endorsements as Chief Mate (OSV) and Mate (OSV) will be issued endorsements as master of less than 100 GRT that are not restricted to offshore supply vessels. Mariners holding endorsements as Mate (Pilot) of Towing Vessels will be issued endorsements as master of less than 100 GRT that are not restricted to towing vessels. All other restrictions on the mariner's mate endorsement will apply to the endorsement for master for less than 100 GRT.

Mariners seeking to add the master less than 100 GRT endorsement to their MMCs, must specifically apply for it in order for the Coast Guard to add the endorsement to their credential. However, mariners holding one of the endorsements listed in above are not required to have the endorsement as master in their MMC in order to serve as master on an inspected vessel of less than 100 GRT. As specified in 46 CFR 15.901(a), any mariner holding an endorsement authorizing service as mate on an inspected vessel of 200 GRT or more may serve as master on a vessel of less than 100 GRT on the same route as their equivalent mate endorsement.

This notice is issued under authority of 5 U.S.C. 552(a).

Dated: August 18, 2021.
J.G. Lantz,
U.S. Coast Guard, Director of Commercial Regulations and Standards.

[FR Doc. 2021-18090 Filed 8-20-21; 8:45 am]

BILLING CODE 9110-04-P